DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date: June 20, 2007: 9 a.m.-3:15 p.m.; June 21, 2007: 9 a.m.-3 p.m.

Place: Natcher Center, Building 45, National Institutes of Health, Bethesda Campus, Bethesda, MD.

Status: Open.

Purpose: At this meeting the Committee will hear presentations and hold discussions on several health data policy topics. On the morning and afternoon of the first day the Committee will hear updates and status reports from its subcommittees as well as a briefing on the 5010 transaction data set.

On the morning of the second day the Committee will first hear updates from the Department on activities of the Data Council and the Office of the National Coordinator for Health Information Technology (ONCHIT) followed by Committee actions on selected topics from the subcommittees. The next item will be a briefing on the International Health Terminology Standards Development Organization (IHTSDO.) This briefly will be followed by a discussion of secondary uses of electronic medical record information which will continue after the noon break. There will be a short discussion of future agendas before the meeting adjourns.

The times shown above are for the full Committee meeting. Subcommittee breakout sessions are scheduled for late in the afternoon of the first day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: May 31, 2007.
James Scanlon,
Deputy Assistant Secretary for Planning and Evaluation (SDP), Office of the Assistant Secretary for Planning and Evaluation.

[FR Doc. 07-2861 Filed 6-7-07; 8:45 am]

BILLING CODE 4151-05-M